DEPARTMENT OF COMMERCE

International Trade Administration

[A-570-929]

Small Diameter Graphite Electrodes From the People's Republic of China: Final Results of Antidumping Duty Administrative Review; 2014-2015

AGENCY: Enforcement and Compliance, International Trade Administration, Department of Commerce.

SUMMARY: On March 9, 2016, the Department of Commerce (the Department) published the preliminary results of the administrative review of the antidumping duty order on small diameter graphite electrodes (SDGEs) from the People's Republic of China (the PRC). The period of review (POR) is February 1, 2014, through January 31, 2015. For the final results, we find that certain companies sold subject merchandise at less than normal value.

DATES: Effective September 9, 2016.

FOR FURTHER INFORMATION CONTACT: Dmitry Vladimirov or Michael A. Romani, AD/CVD Operations, Office I, Enforcement and Compliance, International Trade Administration, U.S. Department of Commerce, 1401 Constitution Avenue NW., Washington DC 20230; telephone: (202) 482-0665 or (202) 482-0198, respectively.

SUPPLEMENTARY INFORMATION:

Background

On March 9, 2016, the Department published the preliminary results of the administrative review of the antidumping duty order on SDGEs from the PRC.¹ We received case and rebuttal briefs with respect to the Preliminary Results. On June 7, 2016, the Department extended the deadline for the final results by 60 days to September 6, 2016.² The Department conducted this administrative review in accordance with section 751 of the Tariff Act of 1930, as amended (the Act).

¹ See Small Diameter Graphite Electrodes from the People's Republic of China: Preliminary Results of Antidumping Duty Administrative Review and Rescission of Review In Part; 2014-2015, 81 FR 12468 (March 9, 2016) (Preliminary Results), and accompanying Preliminary Decision Memorandum.

² See Memorandum from Dmitry Vladimirov, International Trade Compliance Analyst, Office I, Antidumping and Countervailing Duty Operations to Deputy Assistant Secretary Christian Marsh entitled, “Small Diameter Graphite Electrodes from the People's Republic of China: Extension of Deadline for Final Results of Antidumping Duty Administrative Review,” dated June 7, 2016.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010, 3801.10, and 8545.11.0020. While the HTSUS subheadings are provided for convenience and customs purposes, the written description of the scope of the order is dispositive. A full description of the scope of the order is contained in the Issues and Decision Memorandum.³

³ See Memorandum from Deputy Assistant Secretary Christian Marsh to Assistant Secretary Paul Piquado entitled, “Issues and Decision Memorandum for the Administrative Review of the Antidumping Duty Order on Small Diameter Graphite Electrodes from the People's Republic of China; 2014-2015,” dated concurrently with, and hereby adopted by, this notice (Issues and Decision Memorandum), at 2-3.

Analysis of Comments Received

All issues raised in the case and rebuttal briefs by parties to this administrative review are addressed in the Issues and Decision Memorandum. A list of the issues raised is attached to this notice as Appendix I. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly at http://enforcement.trade.gov/frn/index.html.

Changes Since the Preliminary Results

Based on our analysis of comments received, we made revisions, including the valuation of certain factors of production, which changed the results for one individually examined company, the Fangda Group,⁴ but did not change the results for the other individually examined company, Fushun Jinly Petrochemical Co., Ltd. (Fushun Jinly). For further details on the changes we made for these final results, see the company-specific analysis memoranda, the Issues and Decision Memorandum, and the final surrogate value memorandum, dated concurrently with this notice.

⁴ We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the individual members of the Fangda Group: Beijing Fangda Carbon Tech Co., Ltd., Chengdu Rongguang Carbon Co., Ltd., Fangda Carbon New Material Co., Ltd., Fushun Carbon Co., Ltd., and Hefei Carbon Co., Ltd.), unchanged in Final Determination of Sales at Less Than Fair Value and Affirmative Determination of Critical Circumstances: Small Diameter Graphite Electrodes from the People's Republic of China, 74 FR 2049 (January 14, 2009).

Rate for Non-Examined Separate Rate Respondent

In these final results of the review, we calculated a zero or de minimis weighted-average dumping margin for Fushun Jinly, and a weighted-average dumping margin above de minimis for the Fangda Group. Accordingly, we used the weighted-average dumping margin calculated for the Fangda Group, which is 11.49 percent, as the rate for Xuzhou Jianglong Carbon Products Co., Ltd. (Xuzhou Jianglong), a company that was not individually examined and is eligible for a separate rate.⁵

⁵ See Issues and Decision Memorandum at 3-4 for a full discussion.

Final Results of the Review

As a result of this administrative review, we determine that the following weighted-average dumping margins exist for the period February 1, 2014, through January 31, 2015:

Company | Margin (percent)
Fangda Group | 11.49
Fushun Jinly Petrochemical Carbon Co., Ltd | 0.00
Xuzhou Jianglong Carbon Products Co., Ltd | 11.49

Disclosure

We intend to disclose the calculations performed to parties in this proceeding within five days after public announcement of the final results, in accordance with 19 CFR 351.224(b).

Assessment Rates

Pursuant to section 751(a)(2)(A) of the Act and 19 CFR 351.212(b)(1), the Department will determine, and U.S. Customs and Border Protection (CBP) shall assess, antidumping duties on all appropriate entries of subject merchandise in accordance with the final results of this review. For entries of subject merchandise during the period of review produced by Fushun Jinly, we will instruct CBP to liquidate the appropriate entries without regard to antidumping duties because Fushun Jinly's weighted-average dumping margin in these final results is de minimis.⁶ For customers or importers of the the Fangda Group for which we do not have entered values, we will calculate customer- (or importer-) specific per unit duty assessment rates based on the ratio of the total amount of dumping calculated for the customer's (or importer's) examined sales of subject merchandise to the total sales quantity associated with those sales, in accordance with 19 CFR 351.212(b)(1). For certain customers or importers of the Fangda Group for which we received entered-value information, we will calculate an antidumping duty assessment rate based on customer-/importer-specific ad valorem rate in accordance with 19 CFR 351.212(b)(1). For Xuzhou Jianglong, the assessment rate is equal to the weighted average dumping margin calculated for the Fangda Group, or 11.49 percent. For entries that were not reported in the U.S. sales databases submitted by companies individually examined during this review, the Department will instruct CBP to liquidate such entries at the PRC-wide rate of 159.64 percent.⁷

⁶ See Antidumping Proceedings: Calculation of the Weighted-Average Dumping Margin and Assessment Rate in Certain Antidumping Duty Proceedings; Final Modification, 77 FR 8101 (February 14, 2012).

⁷ See Final Determination of Sales at Less Than Fair Value and Affirmative Determination of Critical Circumstances: Small Diameter Graphite Electrodes from the People's Republic of China, 74 FR 2049, 2054-55.

We intend to issue assessment instructions to CBP 15 days after the date of publication of the final results of review.

Cash Deposit Requirements

The following cash deposit requirements will be effective upon publication of the final results of this administrative review for all shipments of the subject merchandise from the PRC entered, or withdrawn from warehouse, for consumption on or after the publication date, as provided by section 751(a)(2)(C) of the Act: (1) No cash deposit will be required for subject merchandise exported by Fushun Jinly; (2) for subject merchandise exported by the Fangda Group and Xuzhou Jianglong, the cash deposit rate will be the rate established in these final results of review for each exporter as listed above; (3) for previously investigated or reviewed PRC and non-PRC exporters not listed above that received a separate rate in a prior segment of this proceeding, the cash deposit rate will continue to be the exporter-specific rate; (4) for all PRC exporters of subject merchandise that have not been found to be entitled to a separate rate, the cash deposit rate will be that for the PRC-wide entity, which is 159.64 percent; (5) for all non-PRC exporters of subject merchandise which have not received their own rate, the cash deposit rate will be the rate applicable to the PRC exporter that supplied that non-PRC exporter. These deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Secretary's presumption that reimbursement of the antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: September 2, 2016.
Paul Piquado,
Assistant Secretary for Enforcement and Compliance.

Appendix I

List of Topics Discussed in the Issues and Decision Memorandum

I. Summary

II. Background

III. Scope of the Order

IV. Separate Rates

V. Discussion of the Issues

Comment 1: Eligibility for Separate Rate (Fangda Group and Xuzhou Jianglong)

Comment 2: Whether Xuzhou Jianglong's Sale is Bona Fide

Comment 3: Consumption of Needle Coke (Fangda Group and Fushin Jinly)

Comment 4: Whether U.S. Sales are Bona Fide (Fangda Group and Fushin Jinly)

Comment 5: Universe of Sales (Fangda Group)

Comment 6: Reporting of Forming Scrap (Fangda Group)

Comment 7: Claim for Silicon Carbide By-Product Offset (Fushin Jinly)

Comment 8: Valuation of Certain By-Products/Scrap Items (Fangda Group and Fushin Jinly)

Comment 9: Date of Sale (Fangda Group and Fushin Jinly)

Comment 10: Tolling Data (Fangda Group)

Comment 11: VAT Adjustment Calculation (Fangda Group)

VI. Recommendation

[FR Doc. 2016-21782 Filed 9-8-16; 8:45 am]

BILLING CODE 3510-DS-P